DEPARTMENT OF AGRICULTURE

Forest Service

Hood/Willamette Resource Advisory Committee (RAC)

AGENCY: Forest Service, USDA.

ACTION: Action of meeting.

SUMMARY: The Hood/Willamette Resource Advisory Committee (RAC) will meet on Thursday, August 30, 2007. The meeting is scheduled to begin at 9:30 a.m. and will conclude at approximately 12:30 p.m. The meeting will be held at Salem Office of the Bureau of Land Management Office; 1717 Fabry Road SE., Salem, Oregon; (503) 375-5646. The tentative agenda includes: (1) Report on status of past projects; (2) Election of chairperson; (3) Decision on overhead rate for 2008 projects; (4) Presentation of 2008 Projects; and (5) Public Forum.

The Public Forum is tentatively scheduled to begin at 9:45 a.m. Time allotted for individual presentations will be limited to 3-4 minutes. Written comments are encouraged, particularly if the material cannot be presented within the time limits for the Public Forum. Written comments may be submitted prior to the August 30th meeting by sending them to Joanne West at the address given below.

FOR FURTHER INFORMATION CONTACT: For more information regarding this meeting, contact Joanne West; Sweet Home Ranger District; 4431 Highway 20; Sweet Home, Oregon 97386; (541) 367-3546.

Dated: June 26, 2007.
Dallas J. Emch,
Forest Supervisor.

[FR Doc. 07-3252 Filed 7-3-07; 8:45 am]

BILLING CODE 3410-11-M